DEPARTMENT OF TRANSPORTATION

Federal Aviation Administration

14 CFR Part 73

[Docket No. FAA-2006-26192; Airspace Docket No. 06-ASO-11]

RIN 2120-AA66

Modification and Establishment of Restricted Areas and Other Special Use Airspace, Adirondack Airspace Complex; Fort Drum, NY

AGENCY: Federal Aviation Administration (FAA), DOT.

ACTION: Final rule.

SUMMARY: This action restructures the restricted areas and other special use airspace (SUA) located in the vicinity of Fort Drum, NY. The Air National Guard (ANG) requested redesign of existing restricted airspace R-5201, known as the Adirondack Airspace Complex, by establishing two new restricted areas: R-5202A and R-5202B, and by restructuring the military operations areas (MOA) contained in the Adirondack Airspace Complex. Unlike restricted areas, which are designated under 14 CFR part 73, MOAs are not rulemaking airspace actions. However, since these MOAs form an integral part of the Adirondack Airspace Complex, the FAA is including a description of the associated MOA changes in this rule. The MOA changes described here will also be published in the National Flight Data Digest (NFDD). The ANG requested these airspace changes to provide the additional SUA needed to conduct more realistic aircrew training in the Adirondack Airspace Complex.

DATES: Effective Date: 0901 UTC, November 20, 2008.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

On June 6, 2007, the FAA published in the Federal Register a notice of proposed rulemaking (NPRM) to redesign the SUA in the vicinity of Fort Drum, NY (72 FR 31211). Interested parties were invited to participate in this rulemaking proceeding by submitting written comments on the proposal to the FAA. Seven responses were received.

Discussion of Comments

The Aircraft Owners and Pilots Association (AOPA) opposed the proposed Adirondack Airspace Complex modifications for several reasons. AOPA questioned the need for two nearly identical SUA expansions being developed within 150 nautical miles (NM) of one another (i.e., Adirondack Airspace Complex, NY and Condor MOA, ME). AOPA contended that expanding both Adirondack and Condor would result in redundant SUA and would not be efficient use of the National Airspace System (NAS).

FAA Response: Many factors are considered in the development of SUA proposals including, but not limited to, distance of the proposed SUA from the user's base, number of users to be accommodated and training capacity of the area. Ideally, MOAs should be located within 100 NM of the users' home base. However, this is often not possible due to other requirements of the NAS. The greater the distance from the launch base to the SUA, the more transit time is required, which results in less training time available per sortie and increased training costs per sortie. The main distinction between the Adirondack and Condor SUA is the existence of restricted airspace at Fort Drum, NY. No restricted airspace is available at Condor; therefore, no hazardous activities may be conducted in that airspace. Use of the Condor airspace is limited to air-to-air tactics training, basic flight maneuvers, etc. The Adirondack Airspace Complex is used by as many as eight fighter wings for training in air-to-air tactics, and air-to-ground weapons delivery, lasers, etc. In addition, Fort Drum is the home of the U.S. Army's 10th Mountain Division and the restricted areas are extensively used for surface-based weapons training (e.g., artillery and mortar firing, missiles, etc.) by U.S. Army and National Guard units. The 174th FW at Syracuse, NY, is both the proponent and one of the primary users of the Adirondack Airspace Complex. The distance from Syracuse to Adirondack is about 72 NM and about 274 NM from Syracuse to the Condor airspace. While the 174th FW could conceivably use Condor for its air-to-air training, that would add some 400 NM travel distance—about one hour flying time—to the sortie and severely limit available training time. In addition, some training profiles combine both air-to-air and air-to-ground events in the same sortie making it more efficient to conduct the entire sortie in the Adirondack airspace. At this time, the Condor MOA proposal is still under study and it must be analyzed and evaluated on its own merit.

Additionally, AOPA stated its opposition to use of the “Dynamic Airspace concept” for airspace management as it has yet to be developed and defined.

FAA Response: The “Dynamic Airspace concept” was not addressed in the NPRM and is not an FAA-recognized term. The NPRM did indicate that one feature of the proposed airspace changes was to enable more efficient real-time use of the airspace. It is FAA policy that all SUA areas be activated on a real-time use basis to the extent possible. This means that only those SUA areas, or portions of areas, that are actually needed for the mission are activated, and users are expected to return the airspace to the controlling agency when not needed for the mission. Real-time use provisions are normally specified in a letter of agreement to allow the controlling agency to place temporary restrictions or altitude limitations on the use of the SUA, if required, so that nonparticipating aircraft can transit the SUA area. These provisions would be applied based on traffic conditions at the time.

AOPA recommended that the FAA require a charted radio frequency and telephone number for all new SUA proposals to enable pilots to obtain real-time status information about the airspace. AOPA said that other military units, including the ANG's Volk Field in Wisconsin, have successfully implemented charted frequencies and phone numbers.

FAA Response: The FAA agrees with the use of charted frequencies and phone numbers where the capabilities exist. The Volk Field Combat Readiness Training Center is an advanced operation with multiple radar feeds into their facility and a dedicated VHF radio frequency for disseminating SUA information. Unfortunately, the Adirondack Airspace Complex proponent does not have the same capabilities as Volk Field. There is no military radar coverage and no dedicated radio frequency located at the ANG facility on Fort Drum to provide those services. However, Boston Air Route Traffic Control Center (ARTCC), which is the controlling agency for all Adirondack SUA except the Drum MOA and Wheeler-Sack Approach Control (Drum MOA controlling agency), will be able to provide real-time status for the airspace. Additionally, the Eastern Air Defense Sector (EADS), as the scheduling agency for all of the airspace, has agreed to provide a phone number for SUA scheduling information (1-800-223-5612, Prompt #3).

AOPA also recommended that the managing unit for the Adirondack Airspace Complex be required to use the FAA's Military Airspace Data Entry (MADE) SUA scheduling system to ensure that SUA information is available to Automated Flight Service Stations and other agencies.

FAA Response: EADS, the airspace scheduling agency, supports this process and plans to use MADE to the maximum extent possible.

Two commenters objected to the proposal based on the impact on flights between the areas to the south and west of the Adirondack Airspace Complex MOAs and towns in northern New York, such as Saranac Lake and Lake Placid. One commenter was concerned that a convenient VOR Federal airway would be eliminated. Another stated that, on Instrument Flight Rules (IFR) flights when using GPS for point-to-point direct navigation, about 50% of the time, he is vectored off the direct routing and sent to V-196. Both individuals feared that the expanded MOAs would result in flights being forced further east and directly over the highest mountain peaks where the minimum en route altitude is 10,000 feet mean sea level (MSL). This would result in increased costs in both fuel and time and also decrease flight safety by placing the aircraft over inhospitable terrain and in an area where the worst icing is encountered. Further, the commenter doubted that the proposal to open parts of the MOAs for transit by civil aircraft would not be realized due to controller staffing and workload issues.

FAA Response: The FAA acknowledges that the proposed new MOAs may have some impact on Visual Flight Rules and IFR traffic flying southwest/northeast through the region. However, several mitigations were incorporated to minimize the impacts. To better facilitate real-time use of the airspace, the proposed Tupper North airspace has been further spilt into two MOAs: the Tupper West and Tupper Central (the proposed Tupper North designation will not be used). The Tupper West MOA lies directly over the Cranberry MOA (Note: Cranberry extends from 500 feet above ground level (AGL) to but not including 6,000 feet MSL). The Tupper Central MOA consists of the remainder of what was proposed as the Tupper North MOA. This new configuration will provide greater flexibility in accommodating both military activity and civil traffic in the area. Additionally, the letter of agreement with the using agency will provide Boston ARTCC the option to adjust the MOA floor as required to allow civil aircraft to traverse the Tupper MOA airspace. Despite the MOA expansions, Federal airway V-196 will remain a viable means for transiting the area.

One commenter, who flies an amphibian float plane between Rochester, NY, and the Thousand Island region of New York State, wrote with concerns about the impact of the airspace changes on the use of Maxson Field (89N) and Crystal Lake, within the Drum MOA. The commenter had similar concerns about the MOAs being too close to Piseco Airport (K09) and the Adirondack Regional Airport, Saranac Lake (SLK). The commenter cited the Adirondack D MOA as being too low and too close to Maxson and Crystal Lake and suggested that, instead of beginning at 500 feet AGL, the MOA should be raised to at least 2,000 feet AGL.

FAA Response: Currently, the closest MOA to Maxson Field is the Drum 1 MOA, which extends from 500 AGL to 5,000 feet MSL. The western boundary of the existing Drum 1 MOA lies about 2 ½ NM east of the airport. With the airspace changes, the Drum 1 MOA is being reduced in size and renamed the Drum MOA. The new Drum MOA boundary will be moved further eastward increasing the distance from Maxson Field to about 5 NM, thereby reducing impacts on the airport. Although the commenter identified the new Adirondack D MOA as impacting Maxson Field and Crystal Lake, we believe the commenter meant Drum MOA. The Adirondack D MOA lies east of, and adjacent to, the new Drum MOA and extends upward from 5,000 feet MSL up to but not including Flight Level (FL) 180. Regarding the concerns about the proximity of the MOAs to the Piseco and Saranac Lake airports, the Piseco airport is located about 2 NM south of the Tupper South MOA boundary. The floor of the Tupper South MOA will vary seasonally ranging from 6,000 feet MSL during November through April, to 8,000 feet MSL during May through October. Although the new MOA does extend into close proximity to Piseco Field, with its field elevation of 1,703 feet MSL, ample airspace should be available for traffic patterns and airport arrivals and departures. The Adirondack Regional Airport is located directly under the eastern boundary of the new Tupper East MOA. The Tupper East MOA, with a floor of 10,000 feet MSL, was specifically designed as a separate area in order to minimize impacts to the Adirondack Regional Airport. While the published floor of the Tupper East MOA will remain at 10,000 feet MSL to accommodate the mission when needed, the proponent has agreed that Boston ARTCC will routinely limit MOA users to a 12,000 foot floor. This will further minimize impacts on civil traffic in the Saranac Lake area. If the military mission requires a lower altitude, pilots will request the 10,000 foot floor on a real-time basis. Boston ARTCC will have the option to approve the request if traffic permits.

Comments were also received from the Adirondack Mountain Club, The Adirondack Council, and the Adirondack Park Agency. These organizations expressed support for the various mitigations included in the proposal for environmental and cultural impacts, but also noted general concerns about the impacts of low level flights and noise. However, no significant noise impacts are expected as a result of these airspace changes. Generally, noise levels are expected to remain consistent with existing levels, or be less across the complex.

Adirondack Airspace Complex MOAs

MOAs are non-rulemaking airspace actions that are established administratively and published in the NFDD. Since they are an integral part of the Adirondack Airspace Complex, the MOA changes were described in the NPRM and are included in this rule for information purposes.

The ANG requested the MOA modifications to improve flight safety; enable more efficient real-time, joint-use management of the airspace; lessen or balance environmental impacts of the current MOA configuration; and permit more realistic aircrew training in the Adirondack Airspace Complex. Most of the redesigned MOAs are contained within airspace that is already designated as MOA. However, these modifications do encompass some additional airspace, both laterally and vertically, outside the current MOA boundaries to the east and south of the currently charted MOAs.

There are several changes to the descriptions of the MOAs from those contained in the proposal. As discussed above, the proposed Tupper North MOA is further subdivided into the Tupper West and Tupper Central. The Tupper North title will not be used. This change enhances the real-time use of airspace and provides air traffic control with additional airspace management options. The northern boundary of the Cranberry MOA is moved south by ½ NM to avoid conflict with protected airspace for instrument procedures at Massena International Airport—Richards Field, NY. One common point that is shared in the descriptions of the Adirondack B, Adirondack D and Drum MOAs was listed differently in the proposed descriptions and is corrected to lat. 44°19′00″ N., long. 75°37′05″ W. The controlling agency for all of the Adirondack airspace, except the Drum MOA, is Boston ARTCC. The controlling agency for the Drum MOA is Wheeler-Sack Approach Control. The using agency for all of the MOAs is the New York ANG, 174th Fighter Wing, Detachment 1, Fort Drum, NY.

In consideration of the above, the nine existing MOAs in the Adirondack Airspace Complex (i.e., Drum 1 MOA, Drum 2 MOA, Falcon 1 MOA, Falcon 3 MOA, Syracuse 1 MOA, Syracuse 2A MOA, Syracuse 2B MOA, Syracuse 3 MOA, and Syracuse 4 MOA), are cancelled and are replaced by 13 new MOAs as follows:

1. Adirondack A MOA, NY [New]

Boundaries. Beginning at lat. 44°30′00″ N., long. 75°20′00″ W.; to lat. 44°36′00″ N., long. 75°03′00″ W.; to lat. 44°30′00″ N., long. 75°03′00″ W.; to the point of beginning.

Altitudes. 6,000 feet MSL to but not including FL 180.

Times of use. May 1-August 31: 0800-1700 Monday-Friday; other times by NOTAM. September 1-April 30: 0800-2200 Monday-Friday; other times by NOTAM.

2. Adirondack B MOA, NY [New]

Boundaries. Beginning at lat. 44°19′00″ N., long. 75°37′05″ W.; to lat. 44°26′30″ N., long. 75°30′00″ W.; to lat. 44°30′00″ N., long. 75°20′00″ W.; to lat. 44°30′00″ N., long. 75°03′00″ W.; to lat. 44°27′30″ N., long. 75°03′00″ W.; to lat. 44°20′20″ N., long. 75°10′30″ W.; to lat. 44°15′09″ N., long. 75°30′42″ W.; to lat. 44°16′07″ N., long. 75°32′41″ W.; to the point of beginning; excluding R-5202B when active.

Altitudes. 2,500 feet MSL to but not including FL 180.

Times of use. May 1-August 31: 0800-1700 Monday-Friday; other times by NOTAM. September 1-April 30: 0800-2200 Monday-Friday; other times by NOTAM.

3. Adirondack C MOA, NY [New]

Boundaries. Beginning at lat. 44°15′09″ N., long. 75°30′42″ W.; to lat. 44°20′20″ N., long. 75°10′30″ W.; to lat. 44°27′30″ N., long. 75°03′00″ W.; to lat. 44°06′00″ N., long. 75°03′00″ W.; to lat. 44°06′00″ N., long. 75°28′49″ W.; to lat. 44°07′10″ N., long. 75°26′49″ W.; to lat. 44°11′24″ N., long. 75°22′59″ W.; to the point of beginning; excluding R-5202B when active.

Altitudes. 100 feet AGL to but not including FL 180.

Times of use. May 1-August 31: 0800-1700 Monday-Friday; other times by NOTAM. September 1-April 30: 0800-2200 Monday-Friday; other times by NOTAM.

4. Adirondack D MOA, NY [New]

Boundaries. Beginning at lat. 44°11′50″ N., long. 75°43′53″ W.; to lat. 44°19′00″ N., long. 75°37′05″ W.; to lat. 44°16′07″ N., long. 75°32′41″ W.; to lat. 44°10′50″ N., long. 75°38′59″ W.; to lat. 44°09′34″ N., long. 75°40′00″ W.; to the point of beginning; excluding R-5202B when active.

Altitudes. 5,000 feet MSL to but not including FL 180.

Times of use. May 1-August 31: 0800-1700 Monday-Friday; other times by NOTAM. September 1-April 30: 0800-2200 Monday-Friday; other times by NOTAM.

5. Carthage East MOA, NY [New]

Boundaries. Beginning at lat. 44°01′05″ N., long. 75°37′14″ W.; to lat. 44°06′00″ N., long. 75°28′49″ W.; to lat. 44°06′00″ N., long. 75°03′00″ W.; to lat. 43°53′00″ N., long. 75°03′00″ W.; to lat. 43°53′00″ N., long. 75°35′00″ W.; to the point of beginning.

Altitudes. 100 feet AGL to but not including FL 180.

Times of use. May 1-August 31: 0800-1700 Monday-Friday; other times by NOTAM. September 1-April 30: 0800-2200 Monday-Friday; other times by NOTAM.

6. Carthage West MOA, NY [New]

Boundaries. Beginning at lat. 43°44′00″ N., long. 75°52′00″ W.; to lat. 44°11′50″ N., long. 75°43′53″ W.; to lat. 44°09′34″ N., long. 75°40′00″ W.; to lat. 44°06′55″ N., long. 75°42′09″ W.; to lat. 44°03′20″ N., long. 75°40′49″ W.; to lat. 44°01′05″ N., long. 75°37′14″ W.; to lat. 43°53′00″ N., long. 75°35′00″ W.; to the point of beginning.

Altitudes. 6,000 feet MSL to but not including FL 180.

Times of use. May 1-August 31: 0800-1700 Monday-Friday; other times by NOTAM. September 1-April 30: 0800-2200 Monday-Friday; other times by NOTAM.

7. Cranberry MOA, NY [New]

Boundaries. Beginning at lat. 44°35′30″ N., long. 75°03′00″ W.; to lat. 44°36′00″ N., long. 75°00′00″ W.; to lat. 44°36′00″ N., long. 74°35′00″ W.; to lat. 44°15′00″ N., long. 74°35′00″ W.; to lat. 43°53′00″ N., long. 75°03′00″ W.; to the point of beginning.

Altitudes. 500 feet AGL to but not including 6,000 feet MSL.

Times of use. November 1-April 30: 0800-2200 Monday-Friday; other times by NOTAM; May 1-October 31: Area closed.

8. Drum MOA, NY [New]

Boundaries. Beginning at lat. 44°14′49″ N., long. 75°49′00″ W.; to lat. 44°19′00″ N., long. 75°44′30″ W.; to lat. 44°19′00″ N., long. 75°37′05″ W.; to lat. 44°16′07″ N., long. 75°32′41″ W.; to lat. 44°10′50″ N., long. 75°38′59″ W.; to lat. 44°09′34″ N., long. 75°40′00″ W.; to the point of beginning.

Altitudes. 500 feet AGL to but not including 5,000 feet MSL.

Times of use. May 1-August 31: 0800-1700 Monday-Friday; other times by NOTAM. September 1-April 30: 0800-2200 Monday-Friday; other times by NOTAM.

9. Lowville MOA, NY [New]

Boundaries. Beginning at lat. 43°44′00″ N., long. 75°52′00″ W.; to lat. 43°53′00″ N., long. 75°35′00″ W.; to lat. 43°53′00″ N., long. 75°03′00″ W.; to lat. 43°30′00″ N., long. 75°03′00″ W.; to lat. 43°30′00″ N., long. 75°52′00″ W.; to the point of beginning.

Altitudes. 100 feet AGL to but not including FL 180.

Times of use. May 1-August 31: 0800-1700 Monday-Friday; other times by NOTAM. September 1-April 30: 0800-2200 Monday-Friday; other times by NOTAM.

10. Tupper West MOA, NY [New]

Boundaries. Beginning at lat. 44°36′00″ N., long. 75°03′00″ W.; to lat. 44°36′00″ N., long. 74°35′00″ W.; to lat. 44°15′00″ N., long. 74°35′00″ W.; to lat. 43°53′00″ N., long. 75°03′00″ W.; to the point of beginning.

Altitudes. May 1-October 31: 8,000 feet MSL to but not including FL 180; November 1-April 30: 6,000 feet MSL to but not including FL 180.

Times of use. May 1-August 31: 0800-1700 Monday-Friday; other times by NOTAM. September 1-April 30: 0800-2200 Monday-Friday; other times by NOTAM.

11. Tupper Central MOA, NY [New]

Boundaries. Beginning at lat. 44°36′00″ N., long. 74°35′00″ W.; to lat. 44°36′00″ N., long. 74°21′00″ W.; to lat. 44°14′00″ N., long. 74°21′00″ W.; to lat. 44°06′00″ N., long. 74°12′00″ W.; to lat. 43°53′00″ N., long. 74°12′00″ W.; to lat. 43°53′00″ N., long. 75°03′00″ W.; to lat. 44°15′00″ N., long. 74°35′00″ W.; to the point of beginning.

Altitudes. May 1-October 31: 8,000 feet MSL to but not including FL 180; November 1-April 30: 6,000 feet MSL to but not including FL 180.

Times of use. May 1-August 31: 0800-1700 Monday-Friday; other times by NOTAM. September 1-April 30: 0800-2200 Monday-Friday; other times by NOTAM.

12. Tupper South MOA, NY [New]

Boundaries. Beginning at lat. 43°53′00″ N., long. 75°03′00″ W.; to lat. 43°53′00″ N., long. 74°12′00″ W.; to lat. 43°40′00″ N., long. 74°12′00″ W.; to lat. 43°30′00″ N., long. 74°21′00″ W.; to lat. 43°30′00″ N., long. 75°03′00″ W.; to the point of beginning.

Altitudes. May 1-October 31: 8,000 feet MSL to but not including FL 180; November 1-April 30: 6,000 feet MSL to but not including FL 180.

Times of use. May 1-August 31: 0800-1700 Monday-Friday; other times by NOTAM. September 1-April 30: 0800-2200 Monday-Friday; other times by NOTAM.

13. Tupper East MOA, NY [New]

Boundaries. Beginning at lat. 44°36′00″ N., long. 74°21′00″ W.; to lat. 44°36′00″ N., long. 74°12′00″ W.; to lat. 44°06′00″ N., long. 74°12′00″ W.; to lat. 44°14′00″ N., long. 74°21′00″ W.; to the point of beginning.

Altitudes. 10,000 feet MSL to but not including FL 180.

Times of use. May 1-August 31: 0800-1700 Monday-Friday; other times by NOTAM. September 1-April 30: 0800-2200 Monday-Friday; other times by NOTAM.

The Rule

The FAA is amending Title 14 Code of Federal Regulations (14 CFR) part 73 to establish two new restricted areas, R-5202A and R-5202B, in the vicinity of Fort Drum, NY. The new restricted areas supplement the existing restricted area, R-5201, to enable aircrews to train in high altitude, long range weapons delivery and other modern tactics at the Adirondack Range. In the NPRM, the FAA also proposed to change the designated altitudes of R-5201 from “Surface to 23,000 feet MSL,” to “Surface to but not including 23,000 feet MSL.” After further discussions between the controlling agency and the proponent, it was determined that this change is not needed; therefore, R-5201 will not be modified as proposed. As a result, the proposed FL 230 base altitude of the new restricted area, R-5202A, which overlies R-5201, is changed to 23,000 feet MSL to be consistent with the ceiling of R-5201. In addition, the NPRM contained an incorrect date in the time of designation for R-5202A and R-5202B. The portion of the time of designation stated in the NPRM as “May 1-August 21” should read “May 1-August 31.” The correct dates are included in this rule. Except as noted above, the restricted area descriptions are the same as proposed in the NPRM.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, section 40103. Under that section, the FAA is charged with prescribing regulations to assign the use of the airspace necessary to ensure the safety of aircraft and the efficient use of airspace. This regulation is within the scope of that authority as it modifies special use airspace in New York.

Environmental Review

The FAA has determined that the Final Environmental Assessment (FEA) prepared by the Air National Guard associated with the proposed project is adequate for adoption in accordance with FAA Order 1050.1E, “Environmental Impacts: Policies and Procedures,” Paragraph 404d. The FAA has independently evaluated the information contained in the FEA and takes full responsibility for the scope and content that addresses FAA actions. Further, the FAA has issued its own Finding of No Significant Impact.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.52 [Amended]

2. § 73.52 is amended as follows:

* * * * *

R-5202A Fort Drum, NY [New]

Boundaries. Beginning at lat. 44°01′05″ N., long. 75°37′14″ W.; to lat. 44°03′20″ N., long. 75°40′49″ W.; to lat. 44°06′55″ N., long. 75°42′09″ W.; to lat. 44°10′50″ N., long. 75°38′59″ W.; to lat. 44°16′07″ N., long. 75°32′41″ W.; to lat. 44°11′24″ N., long. 75°22′59″ W.; to lat. 44°07′10″ N., long. 75°26′49″ W.; to the point of beginning.

Designated altitudes. 23,000 feet MSL to FL 290.

Time of designation. May 1-August 31: 0800-1700 local time, Monday-Friday; other times by NOTAM. September 1-April 30: 0800-2200 local time, Monday-Friday; other times by NOTAM.

Controlling agency. FAA, Boston ARTCC.

Using agency. NY ANG, 174FW/Det 1, Fort Drum, NY.

* * * * *

R-5202B Fort Drum, NY [New]

Boundaries. Beginning at lat. 44°10′18″ N., long. 75°41′18″ W.; to lat. 44°20′32″ N., long. 75°32′04″ W.; to lat. 44°14′00″ N., long. 75°17′00″ W.; to lat. 44°06′00″ N., long. 75°25′10″ W.; to lat. 44°06′00″ N., long. 75°28′49″ W.; to lat. 44°07′10″ N., long. 75°26′49″ W.; to lat. 44°11′24″ N., long. 75°22′59″ W.; to lat. 44°16′07″ N., long. 75°32′41″ W.; to lat. 44°10′50″ N., long. 75°38′59″ W.; to lat. 44°09′34″ N., long. 75°40′00″ W.; to the point of beginning.

Designated altitudes. 6,000 feet MSL to FL 290.

Time of designation. May 1-August 31: 0800-1700 local time, Monday-Friday; other times by NOTAM. September 1-April 30: 0800-2200 local time, Monday-Friday; other times by NOTAM.

Controlling agency. FAA, Boston ARTCC.

Using agency. NY ANG, 174FW/Det 1, Fort Drum, NY.

* * * * *

Issued in Washington, DC, on September 12, 2008.
Edith V. Parish,
Manager, Airspace & Rules Group.

[FR Doc. E8-22646 Filed 9-25-08; 8:45 am]

BILLING CODE 4910-13-P